INTERNATIONAL BOUNDARY AND WATER COMMISSION, UNITED STATES AND MEXICO

United States Section: Notice of Availability of a Draft Environmental Assessment for Rehabilitation of the Levee System in the Tijuana River Flood Control Project

AGENCY: United States Section, International Boundary and Water Commission, United States and Mexico.

ACTION: Notice of availability of the draft Environmental Assessment (EA).

SUMMARY: Pursuant to Section 102(2)(c) of the National Environmental Policy Act of 1969; the Council on Environmental Quality Final Regulations (40 CFR parts 1500 through 1508); and the United States Section, Operational Procedures for Implementing Section 102 of NEPA, published in the Federal Register September 2, 1981, (46 FR 44083); the United States Section hereby gives notice that the Draft Environmental Assessment for Rehabilitation of the Levee System in the Tijuana River Flood Control Project is available. An environmental impact statement will not be prepared unless additional information which may affect this decision is brought to our attention within 30-days from the date of this Notice.

FOR FURTHER INFORMATION CONTACT: Gilbert Anaya, United States Section, International Boundary and Water Commission, 4171 N. Mesa, C-100, El Paso, TX 79902. Telephone: (915) 832-4702, email: gilbert.anaya@ibwc.gov.

Background: This Draft Environmental Assessment analyzes the potential impacts of rehabilitating the levee system in the Tijuana River Flood Control Project in southern San Diego County, California to ensure it will perform during a 100-year flood event and protect the surrounding communities.

Availability: The electronic version of the Draft EA is available from the USIBWC Web page: http://www.ibwc.gov/EMD/EIS_EA_Public_Comment.html.

Dated: December 21, 2016.
Wayne Belzer,
Certifying Officer.

[FR Doc. 2016-31616 Filed 1-3-17; 8:45 am]

BILLING CODE P